ENVIRONMENTAL PROTECTION AGENCY

[FRL-9285-01-OMS]

Privacy Act of 1974; System of Records

AGENCY: Office of the Administrator (OA), Environmental Protection Agency (EPA).

ACTION: Notice of a modified system of records.

SUMMARY: The U.S. Environmental Protection Agency's (EPA), Office of the Administrator is giving notice that it proposes to modify the Reasonable Accommodation Management System (RAMS) pursuant to the provisions of the Privacy Act of 1974. This system of records stores and maintains reasonable accommodation request files for EPA employees and applicants for employment. EPA is updating the RAMS SORN to reflect the explicit inclusion of requests for religious accommodations in addition to medical accommodations.

DATES: Persons wishing to comment on this system of records notice must do so by January 7, 2022. New or modified routine uses for this modified system of records will be effective January 7, 2022.

ADDRESSES: Submit your comments, identified by Docket ID No. EPA-HQ-OEI-2017-0536, by one of the following methods:

Federal eRulemaking Portal: www.regulations.gov. Follow the online instructions for submitting comments.

Email: oei.docket@epa.gov.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OEI-2017-0536. The EPA policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for EPA, which means the EPA will not know your identity or contact information unless you provide it in the body of your comment. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA public docket, visit the EPA Docket Center homepage at http://www.epa.gov/epahome/dockets.htm.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OMS Docket, EPA/DC, WJC West Building, Room 3334, 1301 Constitution Ave. NW, Washington. DC 20460. The Public Reading Room is open from 8:30 a.m. to 4:30 p.m., Monday through Friday excluding legal holidays. The telephone number for the Public Reading Room is (202) 566-1744, and the telephone number for the OMS Docket is (202) 566-1752.

Temporary Hours During COVID-19

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: For information related to medical accommodation requests contact the National Reasonable Accommodation Coordinators (NRACs) at ReasonableAccommodations@epa.gov. For information related to religious accommodation requests contact Krysti Wells, Director, Office of Customer Advocacy, Policy and Portfolio Management (OCAPPM), wells.krysti@epa.gov, 202-564-6295.

SUPPLEMENTARY INFORMATION: EPA uses RAMS to store and maintain information related to requests from individuals for reasonable accommodations from the Agency, as necessary to ensure compliance with applicable laws and regulations. Previously, RAMS covered information on requests for accommodation based on disability. EPA is amending the SORN so that in addition to these disability-related requests, the SORN also explicitly covers requests based on an individual's religious belief, practice, or observance. Additionally, EPA is adding coverage for certain specific accommodation requests based on medical conditions that may not qualify as a disability when such accommodations are authorized (e.g. requests for temporary accommodation for a broken leg, or a delay from the COVID-19 vaccination requirement). EPA is additionally updating the SORN to reflect new requirements in Executive Orders and federal guidance. Accordingly, EPA is updating the following sections of the RAMS SORN: For Further Information Contact; Supplementary Information; System Location; System Manager; Authority; Purpose; Categories of Individuals Covered; Categories of Records; Record Source Categories; Routine Uses; Policies and Practices for Storage of Records; Policies And Practices For Retention And Disposal Of Records; Administrative, Technical, And Physical Safeguards; Record Access Procedure; Contesting Records Procedures, and Notification Procedure.

The updates will allow the Agency to manage all reasonable accommodation request information under the single updated RAMS SORN. EPA will maintain information under the RAMS SORN in two sections—one for medical accommodation request information and one for religious accommodation request information. Medical information is maintained separately from other personnel records.

SYSTEM NAME AND NUMBER:

Reasonable Accommodation Management System (RAMS), EPA-73.

SECURITY CLASSIFICATION:

Unclassified.

SYSTEM LOCATION:

Hard copy and electronic records are maintained at EPA Headquarters, 1200 Pennsylvania Ave. NW, Washington, DC 20460, and/or at the EPA Regional Office and/or the local office of the requestor.

SYSTEM MANAGER(S):

OCAPPM Director, and NRACs, 1200 Pennsylvania Ave. NW, Washington, DC 20460.

AUTHORITY FOR MAINTENANCE OF THE SYSTEM:

Title VII of the Civil Rights Act of 1964 (Pub. L. 88-352); the Rehabilitation Act of 1973; the Americans with Disabilities Act (ADA) and the ADA Amendments Act of 2008 (ADAAA) (Pub. L. 110-325); Executive Order 13164, Requiring Federal Agencies To Establish Procedures To Facilitate the Provision of Reasonable Accommodation (July 28, 2000); Executive Order 13548, Increasing Federal Employment of Individuals with Disabilities (July 26, 2010); Executive Order 14043, Requiring Coronavirus Disease 2019 Vaccination for Federal Employees (Sept. 9, 2021); Executive Order 14042, Ensuring Adequate COVID Safety Protocols for Federal Contractors (Sept. 9, 2021); Executive Order 13991, Protecting the Federal Workforce and Requiring Mask-Wearing (Jan. 20, 2021); Executive Order 12196, Occupational Safety and Health Program for Federal Employees (Feb. 26, 1980); 5 U.S.C. chs. 63, 79; 29 U.S.C. 654, 668, 42 U.S.C. 247d, 12101, 44 U.S.C. 3101, 5 CFR part 339, and 29 CFR part 1602; and Equal Employment Opportunity Commission (EEOC) reasonable accommodation regulations and guidance.

PURPOSE OF THE SYSTEM:

EPA uses RAMS to collect and maintain information on reasonable accommodation requests from EPA employees and applicants for employment. Under Title VII of the Civil Rights Act, the Rehabilitation Act, and the ADA and ADAAA, EPA must provide reasonable accommodations to employees and applicants for employment for qualifying medical disabilities and sincerely held religious beliefs and practices, unless the accommodation would impose an undue hardship on the agency. In certain authorized situations, EPA may provide accommodations to individuals whose medical condition may not qualify as a disability.

Reasonable accommodations are modifications or adjustments that will allow applicants and employees to apply for a job, perform job duties, and/or enjoy the benefits and privileges of employment. Reasonable accommodations may include, but are not limited to: (1) Making existing facilities readily accessible to and usable by individual with disabilities; (2) job restructuring, modification of work schedules or place of work, extended leave, telecommuting, or reassignment to a vacant position; (3) acquisition or modification of equipment or devices, including computer software and hardware, appropriate adjustments or modifications of examinations, training materials or policies, the provision of qualified readers and/or interpreters, personal assistants that enable the individual to perform their job duties and enjoy the benefits and privileges of employment, and other similar accommodations; and/or (4) providing interpreters, large print programs, or other accommodations for EPA events or activities open to employees, applicants, and/or the public.

CATEGORIES OF INDIVIDUALS COVERED BY THE SYSTEM:

EPA employees and applicants for employment at EPA who request a reasonable accommodation (the “Requestor”); individuals whom the Requestor authorizes to submit information in support of their request; and authorized individuals responsible for processing requests.

CATEGORIES OF RECORDS IN THE SYSTEM:

Information collected in RAMS may include but is not limited to: Email correspondence with the Requestor and authorized individuals responsible for processing requests; documentation submitted in support of a request consistent with EPA's Procedures for Providing Reasonable Accommodation for EPA Employees and Applicants with Disabilities; religious belief and practice information submitted in support of a request; and accommodation determination documentation. Specific data elements may include: Requestor name, work address, work phone, work email address, office name, occupational series, pay grade, and bargaining unit; accommodation requested, request date, work/application activity limited by requesting condition; medical information, religious information, disability status, determination date, determination method, explanation of method, and decision-making official name and title; and contact information for individuals whom the Requestor authorizes to submit information in support of their request and for authorized individuals responsible for processing requests.

RECORD SOURCE CATEGORIES:

Information is obtained from: The Requestor; authorized individuals responsible for processing requests; persons appointed by and/or acting on the Requestor's behalf such as a union representative, colleague, or spouse; the NRACs or the Local Reasonable Accommodation Coordinator (LORAC), if there is one for the Requestor's office; the Requestor's medical provider(s); and/or third parties attesting to the Requestor's religious belief or practice (if submitted by or with permission of the individual seeking the accommodation).

ROUTINE USES OF RECORDS MAINTAINED IN THE SYSTEM, INCLUDING CATEGORIES OF USERS AND PURPOSE OF SUCH USES:

The routine uses below are both related to and compatible with the original purpose for which the information was collected. The following general routine uses apply to this system:

A. Disclosure for Law Enforcement Purposes: Information may be disclosed to the appropriate Federal, State, local, tribal, or foreign agency responsible for investigating, prosecuting, enforcing, or implementing a statute, rule, regulation, or order, when a record, either on its face or in conjunction with other information, indicates or is relevant to a violation or potential violation of civil or criminal law or regulation within the jurisdiction of the receiving entity.

B. Disclosure Incident to Requesting Information: Information may be disclosed to any source from which additional information is requested (to the extent necessary to identify the individual, inform the source of the purpose of the request, and to identify the type of information requested) when necessary to obtain information relevant to an agency decision concerning a personnel action (other than hiring), such as retention of an employee, retention of a security clearance, the letting of a contract, or the issuance or retention of a grant, or other benefit.

E. Disclosure to Congressional Offices: Information may be disclosed to a congressional office from the record of an individual in response to an inquiry from the congressional office made at the request of the individual.

F. Disclosure to Department of Justice: Information may be disclosed to the Department of Justice, or in a proceeding before a court, adjudicative body, or other administrative body before which the Agency is authorized to appear, when:

1. The Agency, or any component thereof;

2. Any employee of the Agency in his or her official capacity;

3. Any employee of the Agency in his or her individual capacity where the Department of Justice or the Agency have agreed to represent the employee; or

4. The United States, if the Agency determines that litigation is likely to affect the Agency or any of its components,

Is a party to litigation or has an interest in such litigation, and the use of such records by the Department of Justice or the Agency is deemed by the Agency to be relevant and necessary to the litigation provided, however, that in each case it has been determined that the disclosure is compatible with the purpose for which the records were collected.

G. Disclosure to the National Archives: Information may be disclosed to the National Archives and Records Administration in records management inspections.

H. Disclosure to Contractors, Grantees, and Others: Information may be disclosed to contractors, grantees, consultants, or volunteers performing or working on a contract, service, grant, cooperative agreement, job, or other activity for the Agency and who have a need to have access to the information in the performance of their duties or activities for the Agency.

I. Disclosures for Administrative Claims, Complaints and Appeals Information may be disclosed to an authorized appeal grievance examiner, formal complaints examiner, equal employment opportunity investigator, arbitrator, or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

J. Disclosure to the Office of Personnel Management: Information may be disclosed to the Office of Personnel Management pursuant to that agency's responsibility for evaluation and oversight of Federal personnel management.

K. Disclosure in Connection with Litigation: Information may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

The two routine uses below (L and M) are required by OMB Memorandum M-17-12.

L. Disclosure to Persons or Entities in Response to an actual or Suspected Breach of Personally Identifiable Information: To appropriate agencies, entities, and persons when (1) EPA suspects or has confirmed that there has been a breach of the system of records, (2) EPA has determined that as a result of the suspected or confirmed breach there is a risk of harm to individuals, EPA (including its information systems, programs, and operations), the Federal Government, or national security; and (3) the disclosure made to such agencies, entities, and persons is reasonably necessary to assist in connection with EPA's efforts to respond to the suspected or confirmed breach or to prevent, minimize, or remedy such harm.

M. Disclosure to Assist Another Agency in its Efforts to Respond to a Breach of Personally Identifiable Information: To another Federal agency or Federal entity, when EPA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

Additional routine uses that apply to this system are:

1. Disclosure for Mandatory Reporting Requirements: Information may be disclosed to appropriate federal, state, local, tribal, or foreign governmental agencies or multilateral governmental organizations, to the extent permitted by law, and in consultation with legal counsel, to satisfy mandatory reporting requirements when applicable.

2. Disclosure to a Public Health Authority: Information may be disclosed to: Federal agencies such as the Department of Health and Human Services (HHS), State and local health departments, and other public health or cooperating medical authorities in connection with program activities and related collaborative efforts to deal more effectively with exposures to communicable diseases or to combat public health threats, and to satisfy mandatory reporting requirements when applicable.

3. Disclosure to Governmental Organization: Information may be disclosed to: Appropriate federal, state, local, tribal, or foreign governmental agencies or multilateral governmental organizations, to the extent permitted by law, and in consultation with legal counsel, for the purpose of protecting the vital interests of a data subject or other persons, including to assist such agencies or organizations in preventing exposure to or transmission of a communicable or quarantinable disease or to combat other significant public health threats.

4. Disclosure to Assisting Agency: Information may be disclosed to: A Federal agency or entity authorized to procure assistive technologies and services in response to a request for reasonable accommodation; another Federal agency pursuant to a written agreement with EPA to provide services (such as medical evaluations), when necessary, in support of reasonable accommodation decisions.

5. Disclosure for Emergencies: Information may be disclosed to first aid and safety personnel if the individual's medical condition requires emergency treatment.

6. Disclosure to Oversight Body: Information may be disclosed to another Federal agency or oversight body charged with evaluating EPA's compliance with the laws, regulations, and policies governing reasonable accommodation requests.

7. Disclosure to Hosting Entity: Information may be disclosed to an entity that is hosting an individual receiving an accommodation in order to provide continuation of that accommodation in the hosting location.

POLICIES AND PRACTICES FOR STORAGE OF RECORDS:

Electronic records are maintained in a secure password protected environment on electronic storage devices, including internal servers and local hardware devices (government furnished equipment laptops). The electronic storage devices and any paper records are located at EPA Headquarters, EPA Regional Offices, and/or the local office of the Requestor. Paper records are maintained in file folders stored within locking filing cabinets or locked rooms in secured facilities with controlled access.

POLICIES AND PRACTICES FOR RETRIEVAL OF RECORDS:

These records are retrieved by the Requestor's name, and/or a case number that is assigned to the request in RAMS, and/or by office or region.

POLICIES AND PRACTICES FOR RETENTION AND DISPOSAL OF RECORDS:

Records stored in this system are subject to EPA records schedule number (EPA 0068), Reasonable Accommodation Request Records. A records schedule provides mandatory instructions on how long to keep records (retention) and when they can be disposed. Reasonable accommodation records are retained until three years after an employee separates from EPA or three years after an applicant made the request if they are not hired.

ADMINISTRATIVE, TECHNICAL, AND PHYSICAL SAFEGUARDS:

Security controls used to protect personal sensitive data in RAMS are commensurate with those required for an information system rated MODERATE for confidentiality, integrity, and availability, as prescribed in National Institute of Standards and Technology (NIST) Special Publication, 800-53, “Security and Privacy Controls for Information Systems and Organizations,” Revision 5.

1. Administrative Safeguards: EPA staff must complete annual agency training for Information Security and Privacy. EPA instructs staff to lock and secure their computers and offices, if applicable, when unattended. All staff authorized to use RAMS are required to take training on the proper handling of personally identifiable information before using RAMS as well as annual Agency Information Security and Privacy Awareness training.

2. Technical Safeguards: EPA staff authorized to access electronic records are assigned permission levels. Permission level assignments allow authorized users to access only those system functions and records specific to their Agency work need. EPA also has technical security measures including restrictions on computer access to authorized individuals and required use of a personal identity verification (PIV) card and password. Medical documentation is password protected.

3. Physical Safeguards: Only authorized EPA staff have access to paper files, which are stored within locking filing cabinets or locked rooms in secured facilities with controlled access. Electronic storage devices are maintained in secured facilities with controlled access.

RECORD ACCESS PROCEDURES:

All requests for access to personal records should cite the Privacy Act of 1974 and reference the type of request being made (i.e., access). Requests must include: (1) The name and signature of the individual making the request; (2) the name of the Privacy Act system of records to which the request relates; (3) a statement whether a personal inspection of the records or a copy of them by mail is desired; and (4) proof of identity. A full description of EPA's Privacy Act procedures for requesting access to records is available at 40 CFR part 16.

CONTESTING RECORD PROCEDURES:

Requests for correction or amendment must include: (1) The name and signature of the individual making the request; (2) the name of the Privacy Act system of records to which the request relates; (3) a description of the information sought to be corrected or amended and the specific reasons for the correction or amendment; and (4) proof of identity A full description of EPA's Privacy Act procedures for the correction or amendment of a record are described in EPA's Privacy Act regulations at 40 CFR part 16.

NOTIFICATION PROCEDURE:

Individuals who wish to be informed whether a Privacy Act system of records maintained by EPA contains any record pertaining to them, should make a written request to the EPA, Attn: Agency Privacy Officer, MC 2831T, 1200 Pennsylvania Ave. NW, Washington, DC 20460, privacy@epa.gov.

EXEMPTIONS PROMULGATED FOR THE SYSTEM:

None.

HISTORY:

The original system of records notice for RAMS was published in the Federal Register on July 8, 2019 (84 FR 32456-32460).

Vaughn Noga,
Senior Agency Official for Privacy.

[FR Doc. 2021-26432 Filed 12-7-21; 8:45 am]

BILLING CODE 6560-50-P